FEDERAL EMERGENCY MANAGEMENT AGENCY

44 CFR Part 65

[Docket No. FEMA-P-7612]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Acting Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Acting Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Sebastian (01-06-1837P) | City of Fort Smith | June 12, 2002; June 19, 2002; Southwest Times Record | The Honorable C. Raymond Baker, Mayor, City of Fort Smith, P.O. Box 1908, Fort Smith, AR 72902 | May 31, 2002 | 055013
Illinois:
Will (02-05-2034P) | City of Joliet | June 20, 2002; June 27, 2002; Farmers Weekly Review | The Honorable Arthur Schultz, Mayor, City of Joliet, Municipal Building, 150 West Jefferson Street, Joliet, IL 60432 | September 26, 2002 | 170702
Cook (01-05-3763P) | Village of Palos Park | May 1, 2002; May 8, 2002; Daily Southtown | The Honorable Jean Moran, Mayor, Village of Palos Park, 8999 West 123rd Street, Palos Park, IL 60464 | August 7, 2002 | 170144
Will (02-05-2034P) | Village of Plainfield | June 19, 2002; June 26, 2002; The Enterprise | Mr. Richard Rock, Village President, Village of Plainfield, 530 West Lockport Street, Suite 206, Plainfield, IL 60544 | September 25, 2002 | 170771
Will (02-05-2034P) | Unincorporated Areas | June 19, 2002; June 25, 2002; The Herald News | Mr. Joseph Mikan, County Executive, Will County, 302 North Chicago Street, Joliet, IL 60432 | September 24, 2002 | 170695
Michigan: Wayne (01-05-2843P) | Township of Canton | July 11, 2002; July 18, 2002; Michigan Community Newspapers | Mr. Thomas Yack, Township Supervisor, Township of Canton, 1150 South Canton Center, Canton, MI 48188 | June 14, 2002 | 260219
Minnesota:
Dakota (01-05-2461P) | City of Lakeville | May 1, 2002; May 8, 2002; The Lakeville Sun-Current | Mr. Robert Erickson, Lakeville City Administrator, 20195 Holyoke Avenue, Lakeville, MN 55044 | August 7, 2002 | 270107
Dakota (02-05-0298P) | City of Lakeville | May 22, 2002; May 29, 2002; The Lakeville Sun-Current | Mr. Robert Erickson, Lakeville City Administrator, 20195 Holyoke Avenue, Lakeville, MN 55044 | August 28, 2002 | 270107
Lyon (02-05-1586P) | City of Marshall | May 24, 2002; May 31, 2002; Marshall Independent | The Honorable Robert Byrnes, Mayor, City of Marshall, 344 West Main Street, Marshall, MN 56258 | August 30, 2002 | 270258
Missouri: Howell (00-07-791P) | City of West Plains | June 21, 2002; June 28, 2002; West Plains Daily Quill | The Honorable Joe Paul Evans, Mayor, City of West Plains, P.O. Box 710, West Plains, MO 65775 | December 6, 2002 | 290166
Ohio:
Lorain (02-05-1841P) | City of Avon Lake | May 23, 2002; May 30, 2002; The Sun | The Honorable Robert Berner, Mayor, City of Avon Lake, 150 Avon-Belden Road Avon Lake, OH 44012 | August 28, 2002 | 390602
Cuyahoga (01-05-542P) | City of Parma Heights | May 2, 2002; May 9, 2002; Parma Sun Post | The Honorable Paul Cassidy, Mayor, City of Parma Heights, 6281 Pearl Road, Parma Heights, OH 44130 | August 8, 2002 | 390124
Franklin and Delaware (02-05-1465P) | City of Westerville | May 22, 2002; May 29, 2002; Westerville News and Public Opinion | The Honorable Stewart Flaherty, Mayor, City of Westerville, 21 South State Street, Westerville, OH 43081 | August 28, 2002 | 390179
Oklahoma:
Tulsa (01-06-701P) | City of Bixby | April 25, 2002; May 2, 2002; Bixby Bulletin | The Honorable Joe Williams, Mayor, City of Bixby, 116 West Needles Street, Bixby, OK 74008 | August 1, 2002 | 400207
Oklahoma, Candian, Cleveland, McClain, and Pottawatomie (01-06-2001P) | City of Oklahoma | June 18, 2002; June 25, 2002; The Daily Oklahoman | The Honorable Kirk Humphreys, Mayor, City of Oklahoma City, 200 North Walker, Suite 302, Oklahoma City, OK 73102 | September 24, 2002 | 405378
Texas:
Collin (02-06-1539) | City of Allen | May 29, 2002; June 5, 2002; The Allen American | The Honorable Steve Terrell, Mayor, City of Allen, One Allen Civic Plaza, Allen, TX 75013 | September 4, 2002 | 480131
Collin (01-06-820P) | City of Allen | June 12, 2002; June 19, 2002; The Allen American | The Honorable Stephen Terrell, Mayor, City of Allen, One Allen Civic Plaza, Allen, TX 75013 | September 18, 2002 | 480131
Travis (02-06-826P) | City of Austin | April 30, 2002; May 7, 2002; Austin American Statesman | The Honorable Kirk P. Watson, Mayor, City of Austin, 124 West 8th Street, Austin, TX 78701 | August 6, 2002 | 480624
Travis (01-06-338P) | City of Austin | May 31, 2002; June 7, 2002; Austin American Statesman | The Honorable Gus Garcia, Mayor, City of Austin, P.O. Box 1088, Austin, TX 78767 | September 6, 2002 | 480624
Bexar (02-06-761P) | Unincorporated Areas | May 9, 2002; May 16, 2002; San Antonio Express-News | The Honorable Nelson W. Wolff, Judge, Bexar County, 100 Dolorosa, Suite 120, San Antonio, TX 78205 | August 15, 2002 | 480035
Bexar (01-06-1795P) | Unincorporated Areas | May 24, 2002; May 31, 2002; San Antonio Express News | The Honorable Nelson W. Wolff, County Judge, Bexar County, 100 Dolorosa, Suite 120, San Antonia, TX 78205 | August 30, 2002 | 480035
Brazos (02-06-031P) | City of College Station | May 24, 2002; May 31, 2002; The Bryan/College Station Eagle | The Honorable Lynn McIlhaney, Mayor, City of College Station, P.O. Box 9960, College Station, TX 77842-9960 | August 30, 2002 | 480083
Denton (02-06-276P) | City of Denton | May 22, 2002; May 29, 2002; Denton Record Chronicle | The Honorable Euline Brock, Mayor, City of Denton, 215 East McKinney Street, Denton, TX 76201 | May 2, 2002 | 480194
Tarrant (01-06-982P) | City of Fort Worth | June 7, 2002; June 14, 2002; Fort Worth Star Telegram | The Honorable Kenneth Barr, Mayor, City of Fort Worth, City Hall 1000 Throckmorton Street, Fort Worth, TX 76102 | September 13, 2002 | 480596
Gillespie (00-06-1860P) | City of Fredericksburg | May 22, 2002; May 29, 2002; Fredericksburg Standard Radio Post | The Honorable Tim Crenweldge, Mayor, City of Fredericksburg, 126 West Main Street, Fredericksburg, TX 78624-3708 | August 28, 2002 | 480252
Dallas (02-05-151P) | City of Garland | May 2, 2002; May 9, 2002; Garland Morning News | The Honorable Jim Spence, Mayor, City of Garland, P.O. Box 469002, Garland, TX 75046-9002 | August 8, 2002 | 485471
Hood (02-06-198P) | City of Granbury | May 30, 2002; June 6, 2002; Hood County News | The Honorable David Southern, Mayor, City of Granbury, P.O. Box 969, Granbury, TX 76048 | September 5, 2002 | 480357
Dallas (01-06-1213P) | City of Glenn Heights | May 22, 2002; May 29, 2002; Focus Daily News | The Honorable Mary Coffman, Mayor, City of Glenn Heights, 1938 South Hampton, Glenn Heights, TX 75154 | August 28, 2002 | 481265
Hidalgo (02-06-715P) | Unincorporated Areas | June 20, 2002; June 27, 2002; The Monitor | The Honorable Jose E. Pulido, County Judge, Hidalgo County, 100 E. Cano Street, Edinburg, TX 78539 | May 30, 2002 | 480334
Hood (02-06-198P) | Unincorporated Areas | May 30, 2002; June 6, 2002; Hood County News | The Honorable Linda Steen, Judge, Hood County, 100 East Pearl Street, Granbury, TX 76048 | September 5, 2002 | 480356
Tarrant, (01-06-1481P) | City of Hurst | May 24, 2002; May 31, 2002; Dallas Morning News | The Honorable Bill Souder, Mayor, City of Hurst, 1505 Precinct Line Road, Hurst, TX 76054 | April 30, 2002 | 480601
Gregg and Harrison (02-06-512P) | City of Longview | May 10, 2002; May 17, 2002; Longview News Journal | The Honorable Earl Roberts, Mayor, City of Longview, P.O. Box 1952, 300 West Cotton Street, Longview, TX 75606 | August 16, 2002 | 480264
Collin (01-06-1229P) | City of McKinney | May 7, 2002; May 14, 2002; McKinney Courier-Gazette | The Honorable Don Dozier, Mayor, City of McKinney, P.O. Box 517, McKinney, TX 75070 | August 13, 2002 | 480135
Montgomery (02-06-763P) | Unincorporated Areas | May 1, 2002; May 8, 2002; The Courier | The Honorable Alan B. Sadler Judge, Montgomery County, 301 North Thompson Street, Suite 210, Conroe, TX 77301 | August 7, 2002 | 480483

(Catalog of Federal Domestic Assistance No. 83.100, “Flood Insurance.”)

Dated: July 15, 2002.
Robert F. Shea,
Acting Administrator, Federal Insurance and Mitigation Administration.

[FR Doc. 02-18528 Filed 7-22-02; 8:45 am]

BILLING CODE 6718-04-P